AGENCY FOR INTERNATIONAL DEVELOPMENT

Renewal of Charter of the USAID Board for International Food and Agricultural Development

AGENCY: United States Agency for International Development.

ACTION: Notice.

SUMMARY: Pursuant to the Federal Advisory Committee Act, notice is hereby given of the renewal of the Charter of the USAID Board for International Food and Agricultural Development.

DATES: The Charter is being renewed for two years effective from the date of filing on February 26, 2015.

FOR FURTHER INFORMATION CONTACT: Susan Owens, 202-712-0218.

SUPPLEMENTARY INFORMATION:

Purpose of the Committee

The USAID Board for International Food and Agricultural Development brings together representatives of U.S. Land Grant institutions, other U.S. institutions of higher education, non-profit and private industry to advise upon USAID engagement with higher education institutions and partners in addressing issues related to global hunger and poverty.

Dated: February 24, 2015.
Christa White,
Committee Management Officer.

Charter for the Board for International Food and Agricultural Development

Article I. Committee's Official Designation (Title): Board for International Food and Agricultural Development (henceforth referred to as the “Board”).

Article II. Authority: Establishment of the Board is mandated by Section 298 of the Foreign Assistance Act of 1961 (Pub. L. 87-195), as amended.

Article III. Objectives and Scope of Activities: The Board's mission is to assist the U.S. Agency for International Development in the administration of programs authorized by Section 297 of Title XII of the Foreign Assistance Act of 1961, as amended (Pub. L. 87-195). Its general areas of responsibilities include participating in the planning, development, and implementation of, initiating recommendations for, and monitoring Title XII activities as described in Section 297.

Article IV. Description of Duties: The Board's duties include but are not limited to:

• Participating in the formulation of basic policy, procedures, and criteria for proposed project review, selection, and monitoring;

• recommending which developing nations could benefit from programs carried out under Title XII, and identifying those nations which have an interest in establishing or developing agricultural institutions;

• assessing the impact of programs carried out under Title XII in solving agricultural problems and natural resource issues in developing nations;

• developing information exchanges and consulting regularly with NGOs, consumer groups, agribusinesses and associations, agricultural cooperatives and commodity groups, state departments of agriculture, state agricultural research and extension agencies, and academic institutions;

• investigating and resolving issues concerning the implementation of Title XII as requested by universities; and

• advising the Administrator on any and all issues as requested.

Article V. Agency or Official to Whom the Committee Reports: The Board shall report to the Administrator of the U.S. Agency for International Development.

Article VI. Support: The Bureau for Food Security is responsible for financial and administrative support of the Board and its subordinate units.

Article VII. Estimated Annual Operating Costs and Staff Years: The estimated annual operating and administrative support cost (subject to the availability of funds) for BIFAD is approximately $733,000, which includes 2.5 full-time equivalent staff members and program support for meetings and studies conducted by the Board.

Article VIII. Designated Federal Officer: A senior member of the Bureau for Food Security (BFS) serves full time as Executive Director of BIFAD (BFS/HICD-BIFAD) and is also the Designated Federal Officer.

Article IX. Estimated Number and Frequency of Meetings: The Board estimates that it will meet in public session at least two times per year (1st and 3rd quarters of the fiscal year). The Board may meet in executive session for planning sessions to discuss Title XII program activities and issues during the year.

Article X. Duration: The Board is authorized by statute as a permanent Board and hence, is continuing in its duration.

Article XI. Termination: Section 298 of Title XII provides for a permanent Board.

Article XII. Membership and Designation: The Board shall consist of seven members appointed by the President, no less than four to be selected from the universities as defined by Section 296(d) of Title XII. The members selected from the universities will serve in a representative, not an individual, capacity. Terms of members shall be established by the President at the time of appointment, as provided by Section 298(a) of Title XII.

Article XIII. Subcommittees: Board subordinate units are authorized as necessary for the performance of the Board's duties and the discharge of its responsibilities. All reporting, advice and work products of the Board subordinate units should be made through the Board.

The USAID Bureau for Food Security will provide support services to the Board and its subordinate units as appropriate through the HICD-BIFAD Division.

Article XIV. Recordkeeping: Records are available subject to the Freedom of Information Act, 5 U.S.C. 552, and other applicable laws and regulations.

Article XV. Filing Date: February 26, 2015.

[FR Doc. 2015-04276 Filed 2-26-15; 8:45 am]

BILLING CODE P